DEPARTMENT OF DEFENSE

Office of the Secretary of Defense

Establishment of the Deterrence Concepts Advisory Group

AGENCY: Department of Defense.

ACTION: Notice of establishment.

SUMMARY: The Deterrence Concepts Advisory Group is being established in accordance with the provisions of the Public Law 92-463, the “Federal Advisory Committee Act,” Title 5 U.S.C., Appendix 2.

The Deterrence Concepts Advisory Group is established to provide advice and recommendations to advance the U.S. position as a strong, secure and persuasive force for freedom and progress in the world, and to do so at the lowest nuclear force level consistent with security requirements.

The Panel will be composed of no more than 10 members selected on the basis of their expertise in the fields of nuclear deterrence and security. In accordance with section 10(d) of the Federal Advisory Committee Act, Public Law 92-463, as amended, 5 U.S.C. App II 1982, it has been determined that the committee meetings concern matters listed in 5 U.S.C. 552B(c)(1), and that accordingly the meetings will be closed to the public.

Notice of the establishment of this new committee is being published in less than the 15 days, due to the urgent need to convene this committee so that its advice on a matter of extraordinary importance may be provided to the Secretary of Defense in a timely manner. A waiver of the 15 day notice requirement for establishment of a new committee has been approved.

FOR FURTHER INFORMATION CONTACT: Lauren Haber, Office of the Secretary of Defense for Policy, (703) 697-0286.

Dated: August 3, 2001.
Particia L. Toppings,
Alternate OSD Federal Register Liaison Officer, Department of Defense.

[FR Doc. 01-20051 Filed 8-9-01; 8:45 am]

BILLING CODE 5001-08-M